SOCIAL SECURITY ADMINISTRATION

Senior Executive Service Performance Review Board Membership

AGENCY: Social Security Administration.

ACTION: Notice of Senior Executive Service Performance Review Board membership.

Title 5, U.S. Code, section 4314(c)(4) of the Civil Service Reform Act of 1978, Pub. L. 95-454, requires that the appointment of Performance Review Board members be published in the Federal Register.

The following persons will serve on the Performance Review Board which oversees the evaluation of performance appraisals of Senior Executive Service members of the Social Security Administration.

Nicholas M. Blatchford

Philip A. Gambino

Diane B. Garro

Carmen M. Keller

Terris A. King

Nancy A. McCullough

Carolyn L. Simmons

Felicita Sola-Carter

Frederick G. Streckewald

Paul N. Van de Water

Alice H. Wade

John B. Watson

Charles M. Wood

Dated: August 12, 2002.
Reginald F. Wells,
Deputy Commissioner for Human Resources.

[FR Doc. 02-20956 Filed 8-16-02; 8:45 am]

BILLING CODE 4190-29-P